DEPARTMENT OF COMMERCE

National Oceanic and Atmospheric Administration

[I.D. 051105B]

North Pacific Fishery Management Council; Notice of Public Meeting

AGENCY: National Marine Fisheries Service (NMFS), National Oceanic and Atmospheric Administration (NOAA), Commerce.

ACTION: Notice of meetings of the North Pacific Fishery Management Council Ecosystem Committee.

SUMMARY: The North Pacific Fishery Management Council (Council) Ecosystem Committee will meet by in Girdwood, Alaska, Ballroom C.

DATES: The meeting will be held June 2, 2005, from 1 pm to 5 pm.

ADDRESSES: North Pacific Fishery Management Council, Anchorage, Alaska.

Council address: North Pacific Fishery Management Council, 605 W. 4th Ave., Suite 306, Anchorage, AK 99501-2252.

FOR FURTHER INFORMATION CONTACT: Chris Oliver, Council staff, Phone: 907-271-2809.

SUPPLEMENTARY INFORMATION: The Committee's discussions may include reviewing the Aleutian Island Area-specific management discussion paper. The paper discussing the Council's role in an Ecosystem approach to management in Alaska, and updates on NOAA Fisheries ecosystem initiatives.

Special Accommodations

These meetings are physically accessible to people with disabilities. Requests for sign language interpretation or other auxiliary aids should be directed to Gail Bendixen at 907-271-2809 at least 7 working days prior to the meeting date.

May 11, 2005.
Emily Menashes,
Acting Director, Office of Sustainable Fisheries, National Marine Fisheries Service.

[FR Doc. E5-2414 Filed 5-13-05; 8:45 am]

BILLING CODE 3510-22-S